DEPARTMENT OF THE INTERIOR

Bureau of Land Management

[LLIDT01000.L16100000.DP0000.LXSS081D0000]

Notice of Availability of the Draft Jarbidge Field Office Resource Management Plan and Environmental Impact Statement, Idaho

AGENCY: Bureau of Land Management, Interior.

ACTION: Notice of availability.

SUMMARY: In accordance with the National Environmental Policy Act (NEPA) of 1969, as amended, and the Federal Land Policy and Management Act (FLPMA) of 1976, as amended, the Bureau of Land Management (BLM) has prepared a Draft Resource Management Plan (RMP) and Draft Environmental Impact Statement (EIS) for the Jarbidge Field Office planning area and by this notice is announcing the opening of the comment period.

DATES: To ensure that comments will be considered, the BLM must receive written comments on the Draft RMP/Draft EIS within 90 days following the date the Environmental Protection Agency publishes its notice of the availability of the Draft RMP/Draft EIS in the Federal Register. The BLM will announce future meetings or hearings and any other public participation activities at least 15 days in advance through public notices, media releases, and/or mailings.

ADDRESSES: You may submit comments by any of the following methods:

• E-mail: ID_Jarbidge_RMP@blm.gov.

• Fax: (208) 736-2375, Attention: Jarbidge Planning Team.

• Mail: Jarbidge Planning Team, BLM Jarbidge Field Office, 2536 Kimberly Road, Twin Falls, Idaho 83301.

Copies of the Jarbidge Draft RMP/Draft EIS are available in the Jarbidge Field Office at the above address or at the following Web site: http://www.blm.gov/id/st/en/prog/planning/jarbidge_resource.html.

FOR FURTHER INFORMATION CONTACT: Richard Vander Voet, Jarbidge Field Manager, or Aimee Betts, Jarbidge RMP Project Manager, telephone (208) 736-2350; address Jarbidge Field Office, 2536 Kimberly Road, Twin Falls, Idaho 83301.

SUPPLEMENTARY INFORMATION: The Draft RMP/Draft EIS addresses public land and resources managed by the Jarbidge Field Office in parts of Elmore, Owyhee, and Twin Falls Counties in south-central Idaho and Elko County in northern Nevada. These lands and resources are currently managed under the 1987 Jarbidge RMP, as amended. The planning area extends from the Bruneau River on the west to Salmon Falls Creek on the east, and from the Snake River on the north to the northern boundaries of the BLM Elko Field Office and the Humboldt-Toiyabe National Forest on the south. Although these counties have a combined population of approximately 160,000, Indian Cove, Murphy Hot Springs, Three Creek, and Roseworth are the only communities in the planning area. All have populations of less than 100 people. The majority of the planning area supports sagebrush steppe and seeded grasslands.

The Jarbidge RMP addresses management on approximately 1.4 million acres of public land and 1.6 million acres of Federal mineral estate in the Jarbidge Field Office. Planning decisions in the RMP will only apply to the BLM-administered public lands and mineral estate in the planning area. The Draft RMP/Draft EIS has been developed with broad public participation through a collaborative planning process in accordance with FLPMA and NEPA. Its purpose is to provide appropriate management direction for the Twin Falls District, Jarbidge Field Office that responds to the 2001 Land Use Plan Evaluation Report for the 1987 Jarbidge RMP, new information, changes in resource condition and user demands, and complies with a Stipulated Settlement Agreement (WesternWatersheds Project v. K Lynn Bennett, CV-04-181-S-BLW, under the jurisdiction of the United States District Court for the District of Idaho), while maintaining consistency with FLPMA.

The Draft RMP/Draft EIS includes a series of management actions, within six management alternatives, designed to achieve or maintain desired future conditions that have been defined through the planning process for various concerns including, but not limited to: vegetation, livestock grazing, recreation, energy development, and Areas of Critical Environmental Concern (ACEC).

• The No Action Alternative represents continuation of existing management under current management goals, objectives, and direction specified in the 1987 Jarbidge RMP, as amended.

• Alternative I focuses on enhancing and sustaining existing and historic uses of the planning area.

• Alternative II focuses on increasing commercial uses throughout the planning area.

• Alternative III focuses on restoring the resiliency of ecosystem structure and function through intensive management of fuels and enhanced fire suppression capabilities throughout the planning area.

• Alternative IV focuses on actively restoring the resiliency of ecosystem structure and function through restoration projects and managing uses. Alternative IV has two sub-alternatives (Alternative IV-A and Alternative IV-B) that differ in the size of two proposed ACECs. Alternative IV-B is the Preferred Alternative.

• Alternative V focuses on the restoration of habitats toward historic vegetation communities.

The Preferred Alternative has been identified as described in 40 CFR 1502.14(e). However, identification of this alternative does not represent final agency direction, and the Proposed RMP may reflect changes or adjustments based on information received during public comment, new information, or changes in BLM policies or priorities. The Proposed RMP may include objectives and actions described as portions of other analyzed alternatives. For this reason, the BLM invites and encourages comments on all objectives and actions described in the Draft RMP/Draft EIS.

Among the special designations under consideration within the range of alternatives, ACECs are proposed to protect certain resource values. There are three existing ACECs: Bruneau-Jarbidge, Salmon Falls Creek, and Sand Point; these ACEC designations would be carried forward in some alternatives, sometimes with changes in acreage.

Pertinent information regarding all proposed ACECs in the Preferred Alternative, including values, resource use limitations, and acreages are summarized below. Further information is available at the following Web site: http://www.blm.gov/id/st/en/prog/planning/jarbidge_resource.html.

Bruneau-Jarbidge ACEC (123,000 acres)

• Relevant and Important Values: Botanical, Cultural, Fish, Scenic, Wildlife.

• Limitations on the Following Uses: Livestock Grazing, Land Use Authorizations, Mineral Development.

• Other Restrictions: Managed as Visual Resource Management (VRM) Class I.

Inside Desert ACEC (41,000 acres)

• Relevant and Important Values: Botanical.

• Limitations on the Following Uses: Livestock Grazing, Recreation, Land Tenure Transactions, Mineral Development.

• Other Restrictions: Locate staging areas for fire suppression and rehabilitation activities outside the ACEC.

Jarbidge Foothills ACEC (66,000 acres)

• Relevant and Important Values: Botanical, Cultural, Fish, Wildlife.

• Limitations on the Following Uses: Livestock Grazing, Mineral Development.

• Other Restrictions: Managed as VRM Class I and II.

Lower Bruneau Canyon ACEC (1,000 acres)

• Relevant and Important Values: Aquatic, Botanical.

• Limitations on the Following Uses: Land Tenure Transactions, Mineral Development.

Sand Point ACEC (950 acres)

• Relevant and Important Values: Cultural, Geologic, Historic, Paleontological.

• Limitations on the Following Uses: Livestock Grazing, Land Use Authorizations, Mineral Development.

• Other Restrictions: Closed to fossil collection.

The following ACECs were proposed in alternatives other than the Preferred Alternative:

• Middle Snake ACEC for relevant and important botanical and fish values.

• Sagebrush Sea ACEC for relevant and important botanical, cultural, fish, and wildlife values.

• Salmon Falls ACEC for relevant and important botanical, fish, and scenic values

In addition, ACECs in the preferred alternative may also appear in other alternatives with different acreages and management prescriptions.

Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Following the public comment period, public comments will be used to prepare the Proposed Jarbidge RMP and Final EIS. The BLM will respond to each substantive comment by making appropriate revisions to the document or by explaining why a comment did not warrant a change. A Notice of the Availability of the Proposed RMP/Final EIS will be posted in the Federal Register.

Authority: 40 CFR 1506.6 and 1506.10; 43 CFR 1610.2.

Peter J. Ditton,
Acting Idaho State Director, Bureau of Land Management.

[FR Doc. 2010-21956 Filed 9-2-10; 8:45 am]

BILLING CODE 4310-GG-P